DEPARTMENT OF THE INTERIOR

Bureau of Land Management

DEPARTMENT OF AGRICULTURE

Forest Service

[PO4820000251]

Records of Decision and Approved Resource Management Plan for Bears Ears National Monument and Approval of the Amendment to the Manti-La Sal National Forest Land and Resource Management Plan in Utah

AGENCY: Bureau of Land Management, Interior; Forest Service, Agriculture (USDA).

ACTION: Notice of availability.

SUMMARY: The Bureau of Land Management (BLM), and U.S. Department of Agriculture, Forest Service (USDA Forest Service) (jointly “the Agencies”) announce the availability of the Records of Decision (ROD) for the Approved Resource Management Plan (RMP) for BLM-administered portions of the Bears Ears National Monument (BENM) and a ROD for the Approval of the Amendment to the 1986 Manti-La Sal National Forest Land and Resource Management Plan (LRMP) that adopts the Approved RMP for USDA Forest Service-administered portions of BENM located in southeastern Utah. The Department of the Interior Principal Deputy Assistant Secretary for Land and Minerals Management signed the BLM ROD, which constitutes the final decision of the BLM and makes the Approved RMP effective immediately on BLM-administered lands. The Manti-La Sal National Forest Supervisor signed the USDA Forest Service ROD approving an amendment to the LRMP to adopt the Approved RMP. The amendment to the LRMP will become effective 30 days after the publication of this notice in the Federal Register.

ADDRESSES: The RODs and Approved RMP are available online at https://eplanning.blm.gov/eplanning-ui/project/2020347/510. Printed copies of the BLM ROD/Approved RMP are available for public inspection at the BLM Monticello Field Office, 365 North Main, Monticello, Utah 84535, and BLM Utah Public Room, 440 West 200 South, Ste. 500, Salt Lake City, UT 84101 or can be provided upon request by contacting BLM Project Manager Jill Stephenson at jstephenson@blm.gov or 435-259-2141. The USDA Forest Service ROD/Approved RMP are available for public inspection at the Manti-La Sal National Forest Monticello Ranger District, 397 North Main Street, Monticello, Utah 84535 or can be provided upon request by contacting Michael Engelhart at michael.engelhart@usda.gov.

A copy of the Protest Resolution Report is available at: https://www.blm.gov/programs/planning-and-nepa/public-participation/protest-resolution-reports.

FOR FURTHER INFORMATION CONTACT: Jill Stephenson, Project Manager, telephone 435-259-2100; address Bureau of Land Management Canyon Country District 82 E Dogwood, Moab, Utah 84532; email jstephenson@blm.gov regarding the BLM ROD. Michael Engelhart, District Ranger, telephone 435-636-3341; address Manti-La Sal National Forest Monticello District PO Box 820, Monticello, UT 84535; email michael.engelhart@usda.gov, regarding the USDA Forest Service ROD. Individuals in the United States who are deaf, deafblind, hard of hearing, or have a speech disability may dial 711 (TTY, TDD, or TeleBraille) to access telecommunications relay services for contacting Ms. Stephenson. Individuals outside the United States should use the relay services offered within their country to make international calls to the point-of-contact in the United States.

SUPPLEMENTARY INFORMATION: The planning area encompasses approximately 1.36 million acres of Federal land administered by the BLM and USDA Forest Service in San Juan County, Utah. Presidential Proclamation 10285 directs the Agencies to “prepare and maintain a new management plan for the entire monument” for the specific purposes of “protecting and restoring the objects identified [in Proclamation 10285] and in Proclamation 9558.” The RMP's purpose is to provide a management framework, including goals, objectives, and management direction to guide BENM management consistent with the protection of BENM objects and the management direction provided in Proclamation 10285. The USDA Forest Service amendment's purpose is to incorporate the approved BENM RMP and update land management allocations of the BENM boundary area into the Manti-La Sal LRMP.

The Approved RMP is based on the Proposed RMP from the Final Environmental Impact Statement (EIS), with minor changes to management actions, goals, and best practices. All changes are described in each Agency's ROD (section 1.2 in the BLM ROD and section 3 and 6 in the USDA Forest Service ROD). The Agencies were informed in the development of the Approved RMP by input from the public, including from the scoping and public comment periods on the EIS and from the protest period, cooperating agencies, State and local governments, including the Utah Division of Wildlife Resources, government-to-government consultation with Tribal Nations, the Monument Advisory Committee, the National Historic Preservation Act consultation, the Endangered Species Act consultation, and the Governor's consistency review. The Approved RMP includes designation of the Aquifer Protection Area of Critical Environmental Concern, retains other existing Areas of Critical Environmental Concern, and closes portions of BENM to recreational shooting, among other management direction.

The BLM and USDA Forest Service provided the Proposed RMP/Final EIS to the public on October 4, 2024, for a 30-day protest period and received 40 protest letters. The USDA Forest Service adopted the BLM's administrative review protest procedures, as provided by 36 CFR 219.59(a). The BLM and USDA Forest Service jointly signed a memorandum documenting the resolutions of all protests for both Agencies. The BLM Assistant Director for Resources and Planning resolved all protests. Responses to protest issues were compiled and documented in a Protest Resolution Report (see ADDRESSES). While no protests were granted, the Agencies made several edits to the Approved RMP text to improve clarity based on input received during the protest period.

The BLM provided the Proposed RMP/Final EIS to the Governor of Utah for a 60-day Governor's consistency review on October 4, 2024. The Governor's Office identified concerns and inconsistencies between the Proposed RMP/FEIS and the State and local plans, policies, and programs in a letter received December 3, 2024. The BLM considered the concerns, and where not in conflict with the purposes, policies and programs of Federal laws and regulations applicable to public lands, accepted recommendations, which are described in sections 1.2 of the BLM ROD. As the changes were within the range of alternatives considered in the RMP/EIS, the BLM did not seek public comments on the recommendations that were accepted.

On January 8, 2025, the Governor appealed to the BLM Director the Acting State Director's decision not to accept or address all the State's recommendations, consistent with 43 CFR 1610.3-2. After careful review and consideration of the Governor's points, the Department of the Interior determined that the planning effort properly considered all applicable State and local plans, policies, and programs, and that no further changes are necessary to provide for a reasonable balance between the national interest and the State's interest. The BLM has published the reasons for the Department of the Interior's determination to reject the Governor's appeal and recommendations on its website (see ADDRESSES).

The Department of the Interior Principal Deputy Assistant Secretary for Land and Minerals Management signed the BLM ROD. The Manti-La Sal National Forest Supervisor signed the USDA Forest Service ROD.

(Authority: 36 CFR 219.13, 36 CFR 219.16, 36 CFR 219.17, 40 CFR 1501.9, 43 CFR 1610.2, and 43 CFR 1610.5-1)

Matthew A. Preston,
BLM Utah State Director, Acting.
Barbara Van Alstine,
Manti-La Sal National Forest Supervisor.

[FR Doc. 2025-00863 Filed 1-15-25; 8:45 am]

BILLING CODE 4331-25-P